DEPARTMENT OF THE INTERIOR

National Park Service

[NPS-WASO-NAGPRA-NPS0039554; PPWOCRADN0-PCU00RP14.R50000]

Notice of Inventory Completion: U.S. Department of the Interior, Fish and Wildlife Service, Alaska Region, Anchorage, AK

AGENCY: National Park Service, Interior.

ACTION: Notice.

SUMMARY: In accordance with the Native American Graves Protection and Repatriation Act (NAGPRA), the U.S. Department of the Interior, Fish and Wildlife Service, Alaska Region (USFWS), with assistance from the University of Alaska Museum of the North and the Museum of the Aleutians has completed an inventory of human remains and associated funerary objects and has determined that there is a cultural affiliation between the human remains and associated funerary objects and Indian Tribes or Native Hawaiian organizations in this notice.

DATES: Repatriation of the human remains and associated funerary objects in this notice may occur on or after April 18, 2025.

ADDRESSES: Jeremy M. Karchut, Regional Historic Preservation Officer/Archaeologist, U.S. Fish and Wildlife Service, 1011 E. Tudor Road, Anchorage, AK 99503, telephone, (907) 786-3399, email jeremy_karchut@fws.gov.

SUPPLEMENTARY INFORMATION: This notice is published as part of the National Park Service's administrative responsibilities under NAGPRA. The determinations in this notice are the sole responsibility of the USFWS, and additional information on the determinations in this notice, including the results of consultation, can be found in its inventory or related records. The National Park Service is not responsible for the determinations in this notice.

Abstract of Information Available

Human remains representing, at least, 67 individuals have been identified. The 338 associated funerary objects are from Agattu Island: a worked piece of ivory, a lot of five animal bones; from Amchitka Island: eight animal bones or fragments, two shells, four wedges, one punch, 11 pieces of worked bone, five awls, one needle fragment, one animal tooth, one pendant, two adze, one graver, 16 flakes or flake lots, one cobble, three cores, 13 hammerstones, one hand stone, one hafted hammer, three harpoon fragments, four worked stones, one net weight, two abraders, nine scrapers, one chopper, one piece of ochre, two lamps, one dish fragment, five knives, two bark samples, three soil samples, 25 lots of animal bone, one bone cup, 13 wedges, 11 pieces of worked bone, one seal figurine, six bone points, four harpoon heads, three harpoon foreshafts, two awls, one animal tooth, eight pendants, one labret, two adzes, seven blades, 14 flakes, 10 cobbles, eight hammerstones, one burin, one whetstone, one ulu, six worked stones, four abraders, one scraper, five knife handles, one piece of worked ivory, one lamp, one knife, two soil samples, five hammerstones, four wedges, one ulu blade, one worked bone, one bone scraper, one gouge, one abrader, two fire drill bit, one adze, one projectile point, one end scraper, one wedge, one ground slate fragment, one harpoon head fragment, from Sheyma Island: one bone meat hook, one lot of animal bones, from Buldir Island: 13 projectile points, four bifaces, 29 blades, two scrapers, three worked stones, three unworked stones, two knives, four flakes, one harpoon head, one bone fragment, one handle, one dart, and one worked bone. The human remains and associated funerary objects were removed from archeological sites on Agattu Island, Amchitka Island, Shemya Island, Little Kiska Island, Nizki Island, Adak Island, Buldir Island, and Attu Island.

On Agattu Island in the Aleutians West Census Area, AK prior to 1968 human remains representing, at minimum, five individuals were removed. According to records at the University of Alaska Museum of the North, these remains were collected by Robert Jones from the surface of a beach and had eroded from a nearby archaeological site. Correspondence in the accession file states that the remains originate from a site that Ales Hrdlicka excavated at prior to World War II. The remains were transferred to the museum in 1968, where they are still housed today and represent two adult males, one adult female, and two juveniles. No known individuals were identified.

On Amchitka Island in the Aleutians West Census Area, AK in 1968, 1969, and 1971 human remains representing, at minimum, 31 individuals (22 adults and nine juveniles) and 269 associated funerary objects were removed from 12 archaeological sites and two unknown locations by William S. Laughlin, Richard Sense, Roger Desautels, and/or John Cook during archaeological survey, testing, and excavation for the Atomic Energy Commission. The complete history of where these human remains and associated funerary objects were stored in the past is unknown, but they are currently split between the University of Alaska Museum of the North in Fairbanks, AK and the Museum of the Aleutians in Unalaska, AK. The archaeological site numbers and corresponding MNI for all 31 individuals removed during work conducted for the Atomic Energy Commission are as follows: one adult individual from RAT-00003, one adult individual from RAT-00006, two adults and one juvenile individual from RAT-00010, one adult individual from RAT-00011, one adult individual from RAT-00013, three adult individuals and one juvenile individual from RAT-00014, one adult individual from RAT-00015, one adult individual from RAT-00023, three adult and five juvenile individuals from RAT-00029, one adult individual from RAT-031, one adult individual from RAT-00032, three adult individuals and one juvenile individual from RAT-00035, one adult individual from RAT-00036, and two adults and one juvenile from unknown locations. No known individuals were identified.

In 1969 human remains representing, at minimum, one juvenile individual was removed from an unknown location on Amchitka Island in the Aleutians West Census Area, AK. The exact location where these remains were collected is unknown, but they were collected by Bob West of Walsh & Co. contractors during excavation of sea otter pens. These remains represent one juvenile individual and were placed at the University of Alaska Museum of the North in 1975 where they are still housed today. No associated funerary objects are present for this individual.

Prior to 1958 human remains representing, at minimum, three individuals were removed from St. Makarius Point on Amchitka Island in the Aleutians West Census Area, AK. These remains were collected from an unknown archaeological site located on top of a bluff and uncovered during construction activities related to a United States Coast Guard Loran Station built on the site. According to records at the University of Alaska Museum of the North, these human remains were transferred to the museum in 1958 where they are still housed today and represent three adult males. No known individuals were identified. No associated funerary objects are present.

In 1957 human remains representing, at minimum, three individuals were removed from St. Makarius Point on Amchitka Island in the Aleutians West Census Area, AK. The exact location where these remains were collected is unknown, and there is little information regarding the circumstances surrounding their removal. According to records at the University of Alaska Museum of the North, these human remains were collected by K. W. Kenyon possibly during biological work being conducted on the island, who then transferred them to the museum where they are still housed today. These human remains represent one adult male and two juveniles. No known individuals were identified. No associated funerary objects are present.

On Shemya Island in the Aleutians West Census Area, AK human remains representing, at minimum one adult individual were removed. The exact location where these remains were collection is unknown, and there is little information regarding the circumstances surrounding their removal. These remains are housed at the Museum of the Aleutians in Unalaska, AK. No known individuals were identified. No associated funerary objects are present.

Prior to 1946 human remains representing, at minimum, four adult individuals were removed from Shemya Island in the Aleutians West Census Area, AK. The exact location where these remains were collected is unknown, and there is little information regarding the circumstances surrounding their removed. These remains were transferred to the Peabody Museum of Archaeology and Ethnology at Harvard University by Louis G. Fonda in 1946. These remains were transferred again in 2017 to the University of Alaska Museum of the North in Fairbanks, AK where they are still housed today. No known individuals were identified. A single associated funerary object was present.

Prior to 1962 human remains representing, at minimum, one adult individual were removed from Shemya Island in the Aleutians West Census Area, AK. The exact location where these remains were collected is unknown, and there is little information regarding the circumstances surrounding their removal. According to records at the University of Alaska Museum of the North, these human remains were transferred to the museum by Cynthia Goodwin in 1962 where they are still housed today. No known individuals were identified. One associated funerary object was present.

In 1963 human remains representing, at minimum, three individuals were removed from Shemya Island in the Aleutians West Census Area, AK. The exact location where these remains were collected is unknown, but they were removed from the east side of the island by M. M. Perry during construction activities. These remains represent one adult female and two juvenile individuals and were transferred to the University of Alaska Museum of the North in 1964 where they are still housed today. No associated funerary objects are present for this individual.

In 1965 human remains representing, at minimum, eight individuals were removed from Shemya Island in the Aleutians West Census Area, AK. According to records at the University of Alaska Museum of the North, these remains were collected from at least two archaeological sites on the island by Mike Aamodt. One adult individual was removed from a location labeled as the North-Northeast site, which was actually located on the east coast of the island and has since been destroyed by construction activities. Three adult and one juvenile individual were removed from a location labeled as the Northeast site which was on the far northeast corner of the island. This site has also subsequently been destroyed by construction activities on the island. Two adult and one juvenile individual were removed from unknown locations on the island. All eight individuals were transferred to the University of Alaska Museum of the North in 1965 where they are still housed today. No known individuals were identified. No associated funerary objects are present.

On Little Kiska Island in the Aleutians West Census Area, AK prior to 1951 human remains representing, at minimum, one individual were removed. The exact location where these remains were collected is unknown, and there is little information regarding the circumstances surrounding their removal. According to records at the University of Alaska Museum of the North, these human remains were transferred to the museum by Arnold Akers in 1951, where they are still housed today. These human remains represent one adult female aged 21-35 years. No known individuals were identified. No associated funerary objects are present.

On Nizki Island in the Aleutians West Census Area, AK in 1976 human remains representing, at minimum, one individual were removed. According to records at the University of Alaska Museum of the North, these remains were collected from the surface of an unknown archaeological site on the west end of the island during biological survey carried out by John L. Trapp with the United State Fish and Wildlife Service. These human remains were transferred to the museum 1976 where they are still housed today and represent one female aged 15-20 years. No known individuals were identified. No associated funerary objects are present.

On Adak Island in the Aleutians West Census Area, AK prior to 1946 human remains representing, at minimum, one individual were removed. The exact location where these remains were collected is unknown, and there is little information regarding the circumstances surrounding their removal. According to records at the University of Alaska Museum of the North, these human remains were found in the back of an abandoned Navy truck associated with Adak Naval Air Station. A Navy intelligence investigation was conducted but no conclusions were reached as to the person's identity, antiquity, or if foul play was involved. Without evidence otherwise, these remains were likely taken from an unknown archaeological site on the island. These remains were transferred to Ivar Skarland at the museum in 1946, where they are still housed today. These human remains represent one adult male aged 21-35 years. No known individuals were identified. No associated funerary objects are present.

On Buldir Island in the Aleutians West Census Area, AK in 1974 human remains representing, at minimum, two individuals were removed. These remains were collected from the ground surface of an unknown archaeological site on the northwest beach of the island. According to records at the University of Alaska Museum of the North, these human remains were collected during the course of biological surveys being completed by G. Vernon Byrd, Matthew H. Dick, and Christian P. Dau with the United States Fish and Wildlife Service. The remains were transferred to the museum in 1975 where they are still housed today and represent one adult male aged 21-30 years and one juvenile male aged 13-17 years. No known individuals were identified. Sixty-five associated funerary objects are present.

On Attu Island in the Aleutians West Census Area, AK in 2002 humans remains representing, at minimum, one individual were removed from an archaeological site (ATU-00014) by Debra Corbett, with the Alaska Region U.S. Fish and Wildlife Service at the time. These remains were transferred from Anchorage, AK to the University of Alaska Museum of the North in Fairbanks, AK in 2016 and were subsequently identified and pulled from the archaeological collection during rehousing and cataloging activities. No known individuals were identified. No associated funerary objects are present.

All 67 individuals and 338 associated funerary objects removed from these islands are believed to be associated with the modern-day populations of Atka Island and the Aleut Corporation. There are no associated radiocarbon dates for these human remains and associated funerary objects. The burial context and physical traits of the human remains are consistent with those observed for pre-contact Aleut populations. Skeletal morphology of present-day Aleut populations is similar to that of pre-contact Aleut populations and demonstrates biological affiliation between present-day Aleut groups and pre-contact populations in the Aleutian Islands. For these reasons the human remains and associated funerary objects removed Agattu Island, Amchitka Island, Shemya Island, Little Kiska Island, Nizki Island, Adak Island, Buldir Island, and Attu Island and described above are determined to be directly related to Alaska Native tribal members residing in Atka, AK today.

Cultural Affiliation

Based on the information available and the results of consultation, cultural affiliation is reasonably identified by the geographical location or acquisition history of the human remains and associated funerary objects described in this notice.

Determinations

The USFWS has determined that:

• The human remains described in this notice represent the physical remains of 67 individuals of Native American ancestry.

• The 338 objects described in this notice are reasonably believed to have been placed intentionally with or near individual human remains at the time of death or later as part of the death rite or ceremony.

• There is a connection between the human remains and associated funerary objects described in this notice and the Native Village of Atka.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after April 18, 2025. If competing requests for repatriation are received, the USFWS must determine the most appropriate requestor prior to repatriation. Requests for joint repatriation of the human remains and associated funerary objects are considered a single request and not competing requests. The USFWS is responsible for sending a copy of this notice to the Indian Tribes and Native Hawaiian organizations identified in this notice.

Authority: Native American Graves Protection and Repatriation Act, 25 U.S.C. 3003, and the implementing regulations, 43 CFR 10.10.

Dated: February 19, 2025.
Melanie O'Brien,
Manager, National NAGPRA Program.

[FR Doc. 2025-04464 Filed 3-18-25; 8:45 am]

BILLING CODE 4312-52-P